DEPARTMENT OF TRANSPORTATION

Federal Aviation Administration

14 CFR Part 39

[Docket No. FAA-2011-1067; Directorate Identifier 2011-NM-034-AD]

RIN 2120-AA64

Airworthiness Directives; Fokker Services B.V. Model F.27 Mark 050 and F.28 Mark 0070 and 0100 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

As required by current certification standards, each transport aeroplane has passenger compartment exit signs and emergency lighting strips installed to locate the emergency exits. A number of these strips and signs are not electrically powered, but are self illuminated by means of a hydrogen isotope, known as Tritium. As this isotope decays over time, these signs will [lose] their brightness.

To remain compliant with regulations, Tritium exit signs and lighting strips should be replaced when their brightness has deteriorated below accepted levels. Currently, the Maintenance Review Board (MRB) Maintenance Planning Document does not include an inspection task for signs and strips containing Tritium.

This condition, if not detected and corrected, could result in insufficiently bright exit signs and lighting strips, preventing safe evacuation during an emergency, possibly resulting in injury to occupants.

* * * * *

The proposed AD would require actions that are intended to address the unsafe condition described in the MCAI.

DATES: We must receive comments on this proposed AD by November 25, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

For service information identified in this proposed AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2011-1067; Directorate Identifier 2011-NM-034-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2010-0261, dated December 9, 2010 (referred to after this as “the MCAI”), to correct an unsafe condition for the specified products. The MCAI states:

As required by current certification standards, each transport aeroplane has passenger compartment exit signs and emergency lighting strips installed to locate the emergency exits. A number of these strips and signs are not electrically powered, but are self illuminated by means of a hydrogen isotope, known as Tritium. As this isotope decays over time, these signs will [lose] their brightness.

To remain compliant with regulations, Tritium exit signs and lighting strips should be replaced when their brightness has deteriorated below accepted levels. Currently, the Maintenance Review Board (MRB) Maintenance Planning Document does not include an inspection task for signs and strips containing Tritium.

This condition, if not detected and corrected, could result in insufficiently bright exit signs and lighting strips, preventing safe evacuation during an emergency, possibly resulting in injury to occupants.

To correct this unsafe condition, EASA issued AD 2010-0200, which required [a detailed visual] inspection of the brightness of all Tritium exit signs and strips and, depending on findings, replacement of insufficiently bright signs and lighting strips.

Following the issuance of [EASA] AD 2010-0200, Fokker Services discovered that one Service Bulletin (SB), SBF100-33-023, contained errors in the two groups of aeroplane serial numbers and, consequently, in the related instructions for those aeroplanes in that SB.

For the reasons described above, this new [EASA] AD retains the requirements of EASA AD 2010-0200, which is superseded, amends the Applicability and refers to Revision 1 of SBF100-33-023 for the accomplishment instructions.

Note: The MRB document will be updated before July 2011 to include an appropriate maintenance task to ensure that the Tritium exit signs and lighting strips meet the minimum brightness requirements.

You may obtain further information by examining the MCAI in the AD docket.

Relevant Service Information

Fokker Services B.V. has issued Service Bulletins SBF50-33-038, dated July 5, 2010; and SBF100-33-023, Revision 1, dated November 4, 2010. The actions described in this service information are intended to correct the unsafe condition identified in the MCAI.

FAA's Determination and Requirements of This Proposed AD

This product has been approved by the aviation authority of another country and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 4 products of U.S. registry. We also estimate that it would take about 1 work-hour per product to comply with the basic requirements of this proposed AD. The average labor rate is $85 per work-hour. Based on these figures, we estimate the cost of the proposed AD on U.S. operators to be $340, or $85 per product.

In addition, we estimate that any necessary follow-on actions would take about 2 work-hours and require parts costing $833, for a cost of $1,003 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Fokker Services B.V.: Docket No. FAA-2011-1067; Directorate Identifier 2011-NM-034-AD.

Comments Due Date

(a) We must receive comments by November 25, 2011.

Affected ADs

(b) None.

Applicability

(c) This AD applies to Fokker Services B.V. Model airplanes identified in paragraphs (c)(1), (c)(2), and (c)(3) of this AD, certificated in any category.

(1) F.27 Mark 050 airplanes having serial numbers (S/N)s: 20104, 20105, 20121 through 20123 inclusive, 20130 through 20135 inclusive, 20141 through 20145 inclusive, 20150, 20156 through 20176 inclusive, 20178 through 20180 inclusive, 20182 through 20199 inclusive, 20202, 20204 through 20207 inclusive, 20210, 20211, 20213 through 20252 inclusive, 20254 through 20266 inclusive, 20270 through 20279 inclusive, 20281, 20283 through 20288 inclusive, 20296 through 20303 inclusive, 20306, 20307, 20312, 20313, 20316, 20317, 20328, 20331, 20333, and 20335.

(2) F.28 Mark 0070 and 0100 airplanes having S/Ns: 11257, 11258, 11262, 11264 through 11266 inclusive, 11287, 11301, 11317, 11340, 11342, 11352 through 11356 inclusive, 11360, 11368 through 11370 inclusive, 11376, 11377, 11385, 11395, 11402, 11403, 11405 through 11408 inclusive, 11411 through 11419 inclusive, 11425 through 11428 inclusive, 11434 through 11437 inclusive, 11447 through 11449 inclusive, 11457 through 11459 inclusive, 11467, 11469, 11478, 11479, 11481, 11482, 11487, 11492 through 11495 inclusive, 11497, 11498, 11501, 11503, 11506, 11507, 11509, 11514, 11521, 11528, 11529, 11532, 11536 through 11541 inclusive, 11543, 11545, 11547, 11549, 11551, 11553 through 11583 inclusive, and 11585.

(3) F.28 Mark 0100 airplanes, if in a post-Fokker Service Bulletin SBF100-52-060 configuration, having S/Ns: 11244 through 11256 inclusive, 11259 through 11261 inclusive, 11263, 11267 through 11286 inclusive, 11288 through 11300 inclusive, 11302 through 11316 inclusive, 11318 through 11339 inclusive, 11341, 11343 through 11351 inclusive, 11357 through 11367 inclusive, 11371 through 11375 inclusive, 11378 through 11384 inclusive, 11386 through 11394 inclusive, 11396 through 11401 inclusive, 11404, 11409, 11410, 11420 through 11424 inclusive, 11429 through 11433 inclusive, 11438 through 11446 inclusive, 11450 through 11456 inclusive, 11460 through 11466 inclusive, 11468, 11470 through 11477 inclusive, 11480, 11483 through 11486 inclusive, 11488 through 11491 inclusive, 11496, 11499, 11500, 11502, 11504, 11505, 11508, 11510 through 11513 inclusive, 11515 through 11520 inclusive, 11522, 11523, and 11527.

Subject

(d) Air Transport Association (ATA) of America Code 33: Lights.

Reason

(e) The mandatory continuing airworthiness information (MCAI) states:

As required by current certification standards, each transport aeroplane has passenger compartment exit signs and emergency lighting strips installed to locate the emergency exits. A number of these strips and signs are not electrically powered, but are self illuminated by means of a hydrogen isotope, known as Tritium. As this isotope decays over time, these signs will [lose] their brightness.

To remain compliant with regulations, Tritium exit signs and lighting strips should be replaced when their brightness has deteriorated below accepted levels. Currently, the Maintenance Review Board (MRB) Maintenance Planning Document does not include an inspection task for signs and strips containing Tritium.

This condition, if not detected and corrected, could result in insufficiently bright exit signs and lighting strips, preventing safe evacuation during an emergency, possibly resulting in injury to occupants.

* * * * *

Compliance

(f) You are responsible for having the actions required by this AD performed within the compliance times specified, unless the actions have already been done.

Actions

(g) Within six months after the effective date of this AD, do a detailed visual inspection of the tritium exit signs and emergency lighting strips for required brightness, in accordance with the Accomplishment Instructions of Fokker Service Bulletin SBF50-33-038, dated July 5, 2010; or SBF100-33-023, Revision 1, dated November 4, 2010; as applicable. If any exit signs or emergency lighting strips are insufficiently bright, before further flight, replace the exit signs or emergency lighting strips, in accordance with the Accomplishment Instructions of Fokker Service Bulletin SBF50-33-038, dated July 5, 2010; or SBF100-33-023, Revision 1, dated November 4, 2010; as applicable. A review of airplane maintenance records is acceptable in lieu of the inspection in this paragraph if the tritium exit signs and emergency lighting strips can be conclusively determined to have been manufactured in 2003 or earlier, from that review; however, the replacement in this paragraph must be accomplished before further flight after doing the review.

Parts Installation

(h) As of the effective date of this AD, no person may install any tritium exit signs or emergency lighting strips if the manufacturing date is seven years or more before the intended installation date, or if the manufacturing date cannot be determined; unless the tritium exit sign or emergency lighting strip has been inspected in accordance with paragraph (g) of this AD, and does not need replacement.

Credit for Actions Accomplished in Accordance With Previous Service Information

(i) Inspecting and replacing the tritium exit sign or emergency lighting strip in accordance with Fokker Service Bulletin SBF100-33-023, dated July 5, 2010, before the effective date of this AD is acceptable for compliance with the corresponding inspection and replacement required by paragraph (g) of this AD.

FAA AD Differences

Note 1: This AD differs from the MCAI and/or service information as follows: No differences.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue, SW., Renton, Washington 98057-3356; telephone (425) 227-1137; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI European Aviation Safety Agency Airworthiness Directive 2010-0261, dated December 9, 2010; Fokker Service Bulletin SBF50-33-038, dated July 5, 2010; and Fokker Service Bulletin SBF100-33-023, Revision 1, dated November 4, 2010; for related information.

Issued in Renton, Washington, on September 30, 2011.
Ali Bahrami,
Manager, Transport Airplane Directorate, Aircraft Certification Service.

[FR Doc. 2011-26108 Filed 10-7-11; 8:45 am]

BILLING CODE 4910-13-P